DEPARTMENT OF HOMELAND SECURITY

Coast Guard

[Docket No. USCG-2009-0973]

Random Drug Testing Rate for Covered Crewmembers for 2017

AGENCY: Coast Guard, DHS.

ACTION: Notice of minimum random drug testing rate.

SUMMARY: The Coast Guard has set the calendar year 2017 minimum random drug testing rate at 25 percent of covered crewmembers.

DATES: The minimum random drug testing rate is effective January 1, 2017 through December 31, 2017. Marine employers must submit their 2016 Management Information System (MIS) reports no later than March 15, 2017.

ADDRESSES: Annual MIS reports may be submitted by electronic submission to the following Internet address: http://homeport.uscg.mil/Drugtestreports.

FOR FURTHER INFORMATION CONTACT: For questions about this notice, please contact Mr. Patrick Mannion, Drug and Alcohol Prevention and Investigation Program Manager, Office of Investigations and Casualty Analysis (CG-INV), U.S. Coast Guard Headquarters, telephone 202-372-1033.

SUPPLEMENTARY INFORMATION: The Coast Guard requires marine employers to establish random drug testing programs for covered crewmembers on inspected and uninspected vessels in accordance with 46 CFR 16.230. Every marine employer is required by 46 CFR 16.500 to collect and maintain a record of drug testing program data for each calendar year, and submit this data by 15 March of the following year to the Coast Guard in an annual MIS report.

Each year, the Coast Guard will publish a notice reporting the results of random drug testing for the previous calendar year's MIS data and the minimum annual percentage rate for random drug testing for the next calendar year. The purpose of setting a minimum random drug testing rate is to assist the Coast Guard in analyzing its current approach for deterring and detecting illegal drug abuse in the maritime industry.

The Coast Guard announces that the minimum random drug testing rate for calendar year 2017 is 25 percent. The Coast Guard may increase this rate if MIS data indicates a qualitative deficiency of reported data or the positive random testing rate is greater than 1.0 percent in accordance with 46 CFR part 16.230(f)(2). MIS data for 2016 indicates that the positive rate is less than one percent.

For 2017, the minimum random drug testing rate will continue at 25 percent of covered employees for the period of January 1, 2017 through December 31, 2017 in accordance with 46 CFR 16.230(e).

Dated: January 12, 2017.
Verne B. Gifford, Jr.,
Captain, USCG, Director of Inspections and Compliance.

[FR Doc. 2017-02337 Filed 2-2-17; 8:45 am]

BILLING CODE 9110-04-P